NUCLEAR REGULATORY COMMISSION

[NRC-2013-0035]

Notice of Forthcoming Workshop To Discuss Revisions to NUREG/BR-0204, Rev. 2 “Instructions for Completing NRC's Uniform Low-Level Waste Manifest”

AGENCY: Nuclear Regulatory Commission.

ACTION: Notice of public workshop.

SUMMARY: The U.S. Nuclear Regulatory Commission (NRC) plans to conduct a public workshop to discuss possible revisions to NUREG/BR-0204, Rev. 2 “Instructions for Completing NRC's Uniform Low-Level Radioactive Waste Manifest.” Information will be gathered from subject matter experts and other interested members of the public regarding NUREG/BR-0204 and how it can best be revised. Specifically, the NRC staff is interested in gaining a better understanding of the issues associated with reporting certain difficult-to-measure (DTM) radionuclides on shipping waste manifests as required by Appendix G of part 20 of Title 10 of the Code of Federal Regulations (10 CFR). In particular based on their experience some involved members of the public would like the NRC to update NUREG/BR-0204 to address the manifesting of Technecium-99 (Tc-99), Carbon-14 (C-14), Tritium (H-3), and Iodine-129 (I-129) to minimize over-estimation of activity. These isotopes are key contributors to groundwater dose and can lead to premature closure of low-level radioactive waste disposal facilities if over-estimated. Additionally, the NRC staff received comments from involved members of the public recommending that the NRC staff consider Chlorine-36 (Cl-36) during this effort so staff will also address the reporting of Cl-36 in the update to NUREG/BR-0204.

DATES: The public workshop will be held on March 1, 2013, from 8:00 a.m. to 1:00 p.m. (registration begins at 7:30 a.m.) at the Sheraton Downtown Phoenix Hotel in Phoenix, Arizona. The public workshop will be held immediately following the 2013 WM Symposia. The workshop is being held in conjunction with the Symposia and being broadcast as a Webinar to draw in as many participants as possible.

ADDRESSES: Please refer to Docket ID NRC-2013-0035 when contacting the NRC about the availability of information regarding this document. You may access information related to this document, which the NRC possesses and are publicly-available, using any of the following methods:

• Federal Rulemaking Web site: Go to http://www.regulations.gov and search for Docket ID NRC-2013-0035. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Don Lowman, Office of Federal and State Materials and Environmental Management Programs, U.S. Nuclear Regulatory Commission, Washington, DC 20555-0001; telephone: 301-415-5452; email: Donald.Lowman@nrc.gov.

I. Further Information

The public workshop will be held at the Sheraton Downtown Phoenix Hotel, 340 N. 3rd Street; West Building, Meeting Room Phoenix A, Phoenix, Arizona 85004. The phone number for the hotel is 1-602-262-2500. The NRC will accept written comments at the public workshop and welcomes active participation from those attending.

II. Background

Part 20, Appendix G, “Requirements for Transfers of Low-Level Radioactive Waste (LLRW) Intended for Disposal at Licensed Land Disposal Facilities and Manifests” requires that an NRC Uniform Waste Manifest (Shipping Paper and Container and Waste Description) be prepared for LLRW intended for ultimate disposal at a licensed LLRW land disposal facility. The waste generator, collector, or processor who transports, or offers for transportation, LLRW must prepare the manifest reflecting information requested on applicable NRC Forms 540 (Uniform Low-Level Radioactive Waste Manifest (Shipping Paper)) and 541 (Uniform Low-Level Radioactive Waste Manifest (Container and Waste Description)) and if necessary, on an applicable NRC Form 542 (Uniform Low-Level Radioactive Waste Manifest (Manifest Index and Regional Compact Tabulation)). NRC Forms 540 and 540A must be completed and must physically accompany the pertinent LLRW shipment. Per Appendix G of 10 CFR Part 20, the shipper of the waste must include, on the uniform manifest for the waste shipment, “[t]he activity of each of the radionuclides H-3, C-14, Tc-99, and I-129 contained in the shipment.” These isotopes are of concern because they were found to be especially important to safety from groundwater migration in the 10 CFR Part 61 Draft Environmental Impact Statement (ADAMS Accession No. ML060930564).

In SECY-13-0001, “Staff Recommendations for Improving the Integration of the Ongoing 10 CFR Part 61 Rulemaking Initiatives” (ADAMS Accession No. ML12199A412), staff noted that involved members of the public have recommended that the earlier assumptions concerning the above isotopes cited in the 10 CFR Part 20, Appendix G should be revisited.

Unfortunately, the activities of H-3, C-14, Tc-99, and I-129 are DTM in the radioactive waste that is generated. Involved members of the public suggest that H-3, C-14, Tc-99, and I-129 are being over-estimated in current site inventory dose assessments because of a reliance on a default value when the amount of the physical isotope in question is below some lower limit of detection threshold for these isotopes. If true, the cumulative effect of this over reporting results in an over-estimation of the site inventory, thus, if reporting requirements are not updated, disposal sites may have to close prematurely due to over-estimation in site inventory dose assessments.

Additionally, the State of Texas required the performance assessment for the Waste Control Specialists (WCS) LLRW disposal facility in Andrews County to address Cl-36 because it is also a key contributor to the groundwater dose and was analyzed in NUREG-1573, “A Performance Assessment Methodology for Low-Level Radioactive Waste Disposal Facilities” (ADAMS Accession No. ML053250352). Cl-36 may also be over-reported because of minimum detection reporting criteria, thus it is included in the effort to update NUREG/BR-0204.

Involved members of the public would like the NRC to address the manifesting of these isotopes. The NRC staff believes it is possible to revise NUREG/BR-0204, Rev. 2 to provide improved reporting guidance for the DTM radionuclides rather than making changes to 10 CFR Part 20. The NRC staff will also evaluate inclusion of Cl-36 in the update to NUREG/BR-0204, Rev. 2.

III. NRC Public Workshop

The purpose of this public workshop is to gather information from interested members of the public concerning possible revisions to NUREG/BR-0204, Rev. 2 “Instructions for Completing NRC's Uniform Low-Level Waste Manifest.” This overall approach is consistent with the NRC's openness policy. The March 1, 2013, public workshop will have a panel of invited subject matter experts to discuss questions and comments regarding DTM isotope reporting issues.

Following the panel session, interested members of the public will have an opportunity to pose questions and comment directly to the panelists.

Pre-registration for this workshop is not necessary. Members of the public choosing to participate in this workshop remotely can do so in one of two ways—online or via a telephone (audio) connection.

Interested members of the public can also participate in this workshop remotely via Webinar.

The Webinar workshop registration link can be found at: https://www1.gotomeeting.com/register/909493521. The Webinar ID is 909-493-521. After registering, instructions for joining the Webinar (including a teleconference number and pass code) will be provided via email. All participants will be in “listen-only” mode during the presentation. Participants will have a chance to pose questions either orally after the presentation or in writing during the Webinar.

To receive a call back, provide your phone number when you join the workshop, or call the following number and enter the access code:

Call-in toll-free number (US/Canada): 1-888-455-9355. The Webinar access code is 9515574.

The agenda for the public workshop will be noticed no fewer than 10 days prior to the workshop on the NRC's Public Meeting Schedule Web site at http://www.nrc.gov/public-involve/public-meetings/index.cfm.

Questions about participation in the public workshops should be directed to the point of contact listed in the FOR FURTHER INFORMATION CONTACT section of this document.

Dated at Rockville, Maryland this 12th day of February 2013.
For the Nuclear Regulatory Commission.
Aby Mohseni,
Deputy Director, Environmental Protection and Performance Assessment Directorate, Division of Waste Management and Environmental Protection, Office of Federal and State Materials and Environmental Management Programs.

[FR Doc. 2013-03850 Filed 2-19-13; 8:45 am]

BILLING CODE 7590-01-P